DEPARTMENT OF THE INTERIOR

Bureau of Indian Affairs

[AAK6006201 156A2100DD AOR3030.999900]

Extending Public Scoping Period for the Snow Mountain Solar Project on the Las Vegas Paiute Indian Reservation, Clark County, NV.

AGENCY: Bureau of Indian Affairs, Interior.

ACTION: Notice.

SUMMARY: The Bureau of Indian Affairs (BIA) is extending the public scoping period for the Snow Mountain Solar Project on the Las Vegas Paiute River Indian Reservation.

DATES: Scoping comments are due on January 30, 2015.

FOR FURTHER INFORMATION CONTACT: Mr. Chip Lewis at (602) 379-6782; email: chip.lewis@bia.gov.

SUPPLEMENTARY INFORMATION: The BIA published a Notice of Intent to Prepare an Environmental Impact Statement in the Federal Register on November 19, 2014 (79 FR 68909) and provided for a 30-day scoping comment period. The BIA is extending the comment period from December 19, 2014, to January 30, 2015 and will accept any comments received prior to January 30, 2015. Please refer to the November 19, 2014 (79 FR 68909) Notice of Intent for project details and commenting instructions.

Dated: January 14, 2015.
Kevin K. Washburn,
Assistant Secretary—Indian Affairs.

[FR Doc. 2015-01585 Filed 1-27-15; 8:45 am]

BILLING CODE 4337-2A-P